POSTAL REGULATORY COMMISSION

39 CFR Part 3011

[Docket No. RM2019-13]

RIN 3211-AA23

Reorganization of Postal Regulatory Commission Rules; Correction

AGENCY: Postal Regulatory Commission.

ACTION: Final rule; correction.

SUMMARY: On April 20, 2020, the Postal Regulatory Commission revised Commission rules. The publication of that document contained an incorrect cross-reference. This document corrects the final regulation.

DATES: This rule is effective June 8, 2023.

ADDRESSES: For additional information, this document can be accessed electronically through the Commission's website at https://www.prc.gov.

FOR FURTHER INFORMATION CONTACT: David A. Trissell, General Counsel, at 202-789-6800.

SUPPLEMENTARY INFORMATION: In a rule published on February 19, 2020 (85 FR 9614), effective April 20, 2020, final rule § 3011.401(c) contained a cross-reference to § 3007.201 of this chapter, instead of the correct cross-reference to § 3011.201. This document corrects that error.

List of Subjects in 39 CFR Part 3011

Administrative practice and procedure, Confidential business information.

For the reasons set out in the preamble, 39 CFR part 3011 is corrected as follows:

PART 3011—NON-PUBLIC MATERIALS PROVIDED TO THE COMMISSION

1. The authority for part 3011 continues to read as follows:

Authority: 39 U.S.C. 503, 504.

2. Revise § 3011.401(c) to read as follows:

§ 3011.401 Materials for which non-public treatment has expired.

* * * * *

(c) Response. A response to the request is due within seven calendar days of the filing of the request, unless the Commission otherwise provides. Any response opposing the request shall seek an extension of non-public status by including an application for non-public treatment compliant with § 3011.201. This extension application shall also include specific facts in support of any assertion that commercial injury is likely to occur if the information contained in the materials is publicly disclosed despite the passage of ten years or the timeframe established by Commission order.

* * * * *

By the Commission.
Erica A. Barker,
Secretary.

[FR Doc. 2023-12229 Filed 6-7-23; 8:45 am]

BILLING CODE 7710-FW-P